DEPARTMENT OF DEFENSE

Office of the Secretary

Charter Renewal of Department of Defense Federal Advisory Committee—Defense Advisory Committee for the Prevention of Sexual Misconduct

AGENCY: Department of Defense (DoD).

ACTION: Charter renewal of Federal Advisory Committee.

SUMMARY: The DoD is publishing this notice to announce that it is renewing the charter for the Defense Advisory Committee for the Prevention of Sexual Misconduct (DAC-PSM).

FOR FURTHER INFORMATION CONTACT: Jim Freeman, DoD Advisory Committee Management Officer, 703-697-1142.

SUPPLEMENTARY INFORMATION: The DAC-PSM's charter is being renewed in accordance with the Federal Advisory Committee Act (FACA) (5 U.S.C., Appendix) and 41 CFR 102-3.55(a)(4). The charter and contact information for the DAC-PSM's Designated Federal Officer (DFO) are found at https://www.facadatabase.gov/FACA/apex/FACAPublicAgencyNavigation.

The DAC-PSM provides the Secretary of Defense, Deputy Secretary of Defense (“the DoD Appointing Authority”), the Under Secretary of Defense for Personnel and Readiness (USD(P&R)), and, as applicable, the Secretary of Homeland Security, with independent advice and recommendations on the prevention of sexual assault (including rape, forcible sodomy, other sexual assault, and other sexual misconduct (including behaviors on the sexual assault continuum of harm)) involving members of the Armed Forces and the policies, programs, and practices of each Military Department, each Armed Force, each Military Service Academy (to include the United States Coast Guard Academy), at all DoD educational institutions and training facilities for the prevention of sexual assault, and other topics of special interest to the Department in response to specific tasks from the DoD Appointing Authority or the USD(P&R). The DAC-PSM is composed of no more than 20 members who are eminent authorities in the field and who have expertise in the prevention of sexual assault and behaviors on the sexual assault continuum of harm; adverse behaviors, including the prevention of suicide and the prevention of substance abuse; the change of culture of large organizations; implementation science; sexual assault prevention efforts of institutions of higher education, public health officials, and such other individuals as the DoD Appointing Authority considers appropriate. Members will consist of talented, innovative private sector leaders with a diversity of background, experience, and thought in support of the DAC-PSM missions.

Individual members are appointed according to DoD policy and procedures, and serve a term of service of one-to-four years with annual renewals. One member will be appointed as Chair of the DAC-PSM. No member, unless approved by the DoD Appointing Authority according to DoD policy and procedures, may serve more than two consecutive terms of service on the DAC-PSM, or serve on more than two DoD Federal advisory committees at one time.

DAC-PSM members who are not full-time or permanent part-time Federal civilian officers or employees are appointed as experts or consultants, pursuant to 5 U.S.C. 3109, to serve as special government employee members. DAC-PSM members who are full-time or permanent part-time Federal civilian officers or employees are designated pursuant to 41 CFR 102-3.130(a), to serve as regular government employee members. In accordance with § 550B(b)(3) of the Fiscal Year 2020 National Defense Authorization Act, no active duty member of the Armed Forces shall be appointed as a DAC-PSM member.

All DAC-PSM members are appointed to provide advice based on their best judgment without representing any particular point of view and in a manner that is free from conflict of interest. Except for reimbursement of official DAC-PSM-related travel and per diem, members serve without compensation.

The public or interested organizations may submit written statements about the DAC-PSM's mission and functions. Written statements may be submitted at any time or in response to the stated agenda of planned meeting of the DAC-PSM. All written statements shall be submitted to the DFO for the DAC-PSM, and this individual will ensure that the written statements are provided to the membership for their consideration.

Dated: December 2, 2022.
Aaron T. Siegel,
Alternate OSD Federal Register Liaison Officer, Department of Defense.

[FR Doc. 2022-26570 Filed 12-6-22; 8:45 am]

BILLING CODE 5001-06-P